DEPARTMENT OF COMMERCE

National Oceanic and Atmospheric Administration

[RTID 0648-XA039]

Endangered and Threatened Species; Take of Anadromous Fish

AGENCY: National Marine Fisheries Service (NMFS), National Oceanic and Atmospheric Administration (NOAA), Commerce.

ACTION: Notice; issuance of one Section 10(a)(1)(A) permit to enhance the propagation and survival of threatened species.

SUMMARY: Notice is hereby given that NMFS has issued one direct take permit (#14741) pursuant to the Endangered Species Act (ESA) of 1973, as amended, to the Monterey Peninsula Water Management District (District) for the Carmel River Steelhead Rescue and Rearing Enhancement Program (Program) for a five year period (with the opportunity for a five year renewal). On June 4, 2018, NMFS provided notice of our receipt of this permit application and Rescue and Rearing Management Plan (RRMP) in the Federal Register. The RRMP specifies operational methods for South-Central California Coast (S-CCC) steelhead (Oncorhynchus mykiss) rescue, rearing, and translocation activities associated with the Sleepy Hollow Steelhead Rearing Facility (Facility). The Facility is located on the Carmel River on the Central California Coast.

DATES: Permit 14741, issued on September 30, 2019, has an expiration date of September 30, 2024, with the opportunity for a five year renewal. The issued permits are subject to certain conditions set forth therein. Subsequent to issuance, the necessary countersignatures by the applicants were received.

ADDRESSES: Requests for copies of the decision documents or any of the other associated materials should be directed to NOAA's National Marine Fisheries Service, California Coast Office, USGS Pacific Coast & Marine Science Center, 2885 Mission Street, Santa Cruz, CA 95060. The decision documents for Permit 14741 are also available online at https://www.fisheries.noaa.gov/action/notice-issuance-permit-implementation-carmel-river-steelhead-rescue-and-rearing-enhancement.

FOR FURTHER INFORMATION CONTACT: Erin Seghesio at 707-578-8515, Erin.Seghesio@noaa.gov or Mandy Ingham at 831-460-7580, Mandy.Ingham@noaa.gov.

SUPPLEMENTARY INFORMATION:

Species Covered in this Notice

This notice is relevant to the following listed species: South-Central California Coast (S-CCC) Steelhead (Oncorhynchus mykiss) Distinct Population Segment (DPS), which is listed as threatened.

Authority

Enhancement permits are issued in accordance with section 10(a)(1)(A) of the ESA (16 U.S.C. 1531 et seq.) and regulations governing listed fish and wildlife permits (50 CFR parts 222-227). NMFS issues permits based on findings that such permits: (1) Are applied for in good faith; (2) if granted and exercised, would not operate to the disadvantage of the listed species that are the subject of the permit; and (3) are consistent with the purposes and policy of section 2 of the ESA. The authority to take listed species is subject to conditions set forth in the permits.

Permit 14741

The District has been issued a permit under section 10(a)(1)(A) of the ESA for a period of five years that allows the take of juvenile and adult steelhead from the threatened S-CCC DPS pursuant to the RRMP. The RRMP was developed with technical assistance from NMFS. The Program's objective is to assist with the restoration, conservation, and maintenance of the steelhead population in the Carmel River Watershed as mitigation for environmental impacts caused by diversion of surface and subsurface streamflow in the lower 38.6 kilometers (24 miles) of the mainstem Carmel River. The Program which was initiated in 1997, was necessary to ensure compliance with California Environmental Quality Act (CEQA) from the environmental impacts of California American Water Company's water withdrawals.

The RRMP will be implemented as an enhancement program, and actions taken pursuant to the permit are designed to enhance survival of S-CCC steelhead that are subject to annual low-flow river dryback. The RRMP incorporates three main components: (1) Rescue and relocation activities; (2) captive rearing activities, and (3) subsequent post-release monitoring. There is no captive spawning of steelhead reared at the facility.

Activities that constitute take of S-CCC steelhead and are permitted include rearing, handling and transport, and tagging. The RRMP includes measures to minimize the likelihood of genetic or ecologic effects to naturally produced S-CCC steelhead resulting from operations at the Facility and translocation activities. Post-release monitoring activities conducted by the District will collect necessary data to document the achievement of performance indicators specified in the RRMP. For a more detailed discussion of these activities, please see the associated documents at https://www.fisheries.noaa.gov/action/notice-issuance-permit-implementation-carmel-river-steelhead-rescue-and-rearing-enhancement.

NEPA Determination

NOAA's Policy and Procedures for Compliance with the National Environmental Policy Act (NEPA) and Related Authorities (NOAA Administrative Order 216-6A and Companion Manual for NAO 216-6A) establishes that all NOAA major Federal actions be reviewed with respect to environmental consequences on the human environment. NOAA Administrative Order 216-6A and Companion Manual for NAO 216-6A were used to examine the issuance of Permit 14741 for its potential to impact the quality of the human environment. NMFS concluded that the issuance of Permit 14741 would not have a significant adverse effect, individually or cumulatively, on the human environment and does not involve any extraordinary circumstances listed in the Companion Manual for NAO 216-6A. Further, it was determined that the Program may appropriately be categorically excluded from the requirement to prepare either an environmental assessment or environmental impact statement, in accordance with the Companion Manual for NAO 216-6A. Specifically, this project fits under the categorical exclusion described in the Companion Manual for NAO 216-6A, B1, issuance of permits or permit modifications under section 10(a)(1)(A) of the ESA for take, import, or export of endangered species for scientific purposes or to enhance the propagation or survival of the affected species, or in accordance with the requirements of an ESA section 4(d) regulation for threatened species.

Public Comments

On June 4, 2018, NMFS provided notice of our receipt of the ESA Section 10(a)(1)(A) permit application and RRMP in the Federal Register (83 FR 25648), which also initiated a 30-day public comment period. NMFS reviewed all comments, conducted extensive literature reviews, consulted with fish culturists, and analyzed stocking data to address comments. NMFS devised a suite of recommendations for the District to consider implementing to improve the Program. The Program modifications were added as an addendum to the RRMP.

Dated: February 10, 2020.
Angela Somma,
Chief, Endangered Species Division, Office of Protected Resources, National Marine Fisheries Service.

[FR Doc. 2020-02995 Filed 2-13-20; 8:45 am]

BILLING CODE 3510-22-P